DEPARTMENT OF TRANSPORTATION

National Highway Traffic Safety Administration

[Docket No. NHTSA-2018-0093]

Agency Information Collection Activities; Submission to the Office of Management and Budget for Review and Approval; Request for Comment; National Driver Register

AGENCY: National Highway Traffic Safety Administration (NHTSA), Department of Transportation.

ACTION: Notice and request for comments on an extension of a previously-approved information collection.

SUMMARY: In compliance with the Paperwork Reduction Act of 1995, this notice announces that the Information Collection Request (ICR) abstracted below is being forwarded to the Office of Management and Budget (OMB) for review and comments. A Federal Register Notice with a 60-day comment period soliciting comments on the following information collection was published on February 1, 2019. No comments were received.

DATES: Comments must be submitted on or before May 30, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: For additional information or access to background documents, contact Frank Subalusky, NSA 200, National Highway Traffic Safety Administration, Room W55-333, Department of Transportation, 1200 New Jersey Avenue SE, Washington, DC 20590. Mr. Subalusky's telephone number is (202) 366-4800. Please identify the relevant collection of information by referring to its OMB Control Number.

SUPPLEMENTARY INFORMATION: Before a Federal agency can collect certain information from the public, it must receive approval from the Office of Management and Budget (OMB). In compliance with these requirements, this notice announces that the following information collection request has been forwarded to OMB.

A Federal Register notice with a 60-day comment period soliciting comments on the information collection was published on February 1, 2019 (84 FR 1270). No comments were received.

Title: National Driver Register.

OMB Control Number: 2127-0001.

Affected Public: State, Local, or Tribal Government.

Type of Request: Extension of Clearance.

Abstract: The purpose of the NDR is to assist States and other authorized users in obtaining information about problem drivers. State motor vehicle agencies submit and use the information for driver licensing purposes. Other sanctioned users obtain the information for transportation safety purposes.

The OMB approval for the survey is scheduled to expire on April 30, 2019. NHTSA seeks an extension of this approval to obtain this problem driver data vital to the NDR's function.

Estimated Total Annual Burden Hours: 1,742 hours.

Estimated Number of Respondents: The number of respondents is 51—the fifty States and the District of Columbia.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information.

Authority: The Paperwork Reduction Act of 1995; 44 U.S.C. Chapter 35, as amended; and 49 CFR 1:48.

Cem Hatipoglu,
Acting Associate Administrator for the National Center for Statistics and Analysis.

[FR Doc. 2019-08676 Filed 4-29-19; 8:45 am]

BILLING CODE 4910-59-P